DEPARTMENT OF HEALTH AND HUMAN SERVICES

Administration for Children and Families

Announcement of the Intent To Award a Supplement to the Three Recipients of the Preferred Communities (PC) Program—Church World Service (CWS), U.S. Committee for Refugees and Immigrants (USCRI), and HIAS

AGENCY: Refugee Program, Office of Refugee Resettlement (ORR), Administration for Children and Families (ACF), Department of Health and Human Services (HHS).

ACTION: Notice of Issuance of a Supplement.

SUMMARY: The Office of Refugee Resettlement (ORR) announces the intent to award a supplement up to the amount of $5,500,000 to be distributed among the three recipients of the Preferred Communities (PC) program that are implementing the Ms. L. Settlement Agreement to provide housing. The three recipients are Church World Service (CWS), U.S. Committee for Refugees and Immigrants (USCRI), and HIAS. The supplement is for the provision of housing assistance as specified by the settlement agreement for Ms. L., et al. vs. U.S. Immigration and Customs Enforcement et al. These three recipients have already begun implementing the services, and additional supplemental funding will assist in the ability to serve the number of clients estimated to seek services within the proposed period of performance.

DATES: The proposed period of performance is March 1, 2024 through September 29, 2024.

FOR FURTHER INFORMATION CONTACT: Anastasia Brown, Division Director, Refugee Services, Administration for Children and Families, Office of Refugee Resettlement, Mary E. Switzer Building, 330 C Street SW, Washington, DC 20201 Telephone: 202-401-4559, Email: anastasia.brown@acf.hhs.gov.

SUPPLEMENTARY INFORMATION: ORR has been designated and has agreed to provide the referenced housing assistance. Three recipients—Church World Service (CWS), U.S. Committee for Refugees and Immigrants (USCRI), and HIAS—decided to participate and received supplemental funding to cover the costs of administration and provision of assistance.

To meet the terms of the Settlement Agreement, ORR will make housing assistance available to Ms. L. Settlement Class members, as determined necessary by a benefits administrator during a 12-month eligibility period. This may include assistance in locating housing; paying costs necessary to attain housing, such as a security deposit and first and last month's rent; and assistance to avoid eviction and meet other emergency housing needs during the 12-month eligibility period. Housing assistance will be for no more than a total of 6 months during the 12-month eligibility period absent extraordinary circumstances. ORR will work with Church World Service (CWS), US Committee for Refugees and Immigrants (USCRI), and HIAS to assign cases to each for housing assistance.

The recipients will employ benefit administrators, who will meet with each family (in person or virtually) and review the family's housing situation and budget. As needed, the family will be provided with rental assistance, assistance locating housing, and assistance in arrangements of deposits (typically first and last month's rent).

It is anticipated that to fully implement the Settlement Agreement, ORR will provide housing assistance through FY 2029.

ORR will supplement these three recipients for services for the remainder or FY 2024 and will provide additional supplemental funding for services in FY 2025 and FY 2026.

Assistance Listing Number: 93.576.

Recipient | Award amount
Church World Service, NY, NY | Up to $2,127,920.
U.S. Committee for Refugees and Immigrants, Arlington, VA | Up to $2,127,920.
HIAS, Silver Spring, MD | Up to $1,238,640.

Statutory Authority: Ms. L. v. U.S. Immigration and Customs Enforcement (2023) Settlement Agreement (Section IV.B.), available at: https://www.justice.gov/opa/file/1319516/dl?inline.

Elizabeth Leo,
Policy Branch Chief, Office of Grants Policy, Office of Administration.

[FR Doc. 2024-14591 Filed 6-28-24; 11:15 am]

BILLING CODE 4184-90-P